SECURITIES AND EXCHANGE COMMISSION

Sunshine Act Meetings

Notice is hereby given, pursuant to the provisions of the Government in the Sunshine Act, Public Law 94-409, that the Securities and Exchange Commission will hold the following meetings during the week of August 26, 2002:

An Open Meeting will be held on Tuesday, August 27, 2002, at 10 a.m., in Room 1C30, the William O. Douglas Room, and Closed Meetings will be held on Wednesday, August 28, 2002 at 10 a.m., and Thursday, August 29, 2002 at 10 a.m.

Commissioners, Counsel to the Commissioners, the Secretary to the Commission, and recording secretaries will attend the Closed Meetings. Certain staff members who have an interest in the matters may also be present.

The General Counsel of the Commission, or his designee, has certified that, in his opinion, one or more of the exemptions set forth in 5 U.S.C. 552b(c)(3), (5), (7), (8), (9)(B), and (10) and 17 CFR 200.402(a)(3), (5), (7), (8), (9)(ii) and (10), permit consideration of the scheduled matters at the Closed Meetings.

The subject matter of the Closed Meeting scheduled for Wednesday, August 28, 2002, will be:

Formal orders of investigation;

Litigation matter;

Regulatory matter bearing enforcement implications;

Institution and settlement of injunctive actions; and

Institution and settlement of administrative proceedings of an enforcement nature.

The subject matter of the Closed Meeting scheduled for Thursday, August 29, 2002, will be:

Settlement of injunctive actions;

and Opinions

The subject matter of the Open Meeting scheduled for Tuesday, August 27, 2002, will be:

1. The Commission will consider approving a delegation to the General Counsel to issue certain orders in Commission administrative proceedings. The proposed delegation would authorize the General Counsel to issue orders, pursuant to Rule of Practice 411(b), under which the Commission would take up on its own motion the issue of what sanctions are appropriate in the public interest.

2. The Commission will consider whether to issue a notice of an application from The Mexico Fund, Inc. (the “Fund”) seeking certain exemptions from the Investment Company Act of 1940. The application seeks an order to permit the Fund to make periodic repurchase offers in compliance with rule 23c-3 under the Act, except that (i) the repurchase offers would be for between one and one hundred percent of the Fund's outstanding shares provided that the Fund will offer to repurchase at least five percent of its outstanding shares each fiscal year; (ii) shareholders participating in the repurchase offers would receive in-kind pro rata portfolio securities of the Fund for their shares; and (iii) the board of directors of the Fund would be able to set and reset the periodic interval between repurchase offers at 3, 6 or 12 months upon prior notice to shareholders. The Fund also requests that the order permit it to remain a closed-end management investment company should the Fund's securities be deemed “redeemable securities” as a result of the repurchase offers and to permit certain affiliated shareholders to participate in the repurchases.

3. The Commission will consider whether to adopt amendments to accelerate the filing of quarterly and annual reports under the Securities Exchange Act of 1934. The amendments also would require companies to disclose in their annual reports whether they provide access to their reports on their websites. The amendments were proposed by the Commission in April, 2002.

4. The Commission will consider whether to adopt new rules that would require an issuer's principal executive and financial officers to certify the issuer's quarterly and annual reports filed under the Securities Exchange Act of 1934. In addition, the new rules would require issuers to maintain internal controls to provide reasonable assurance that they are able to collect, process and disclose the information required in their Exchange Act reports, and to periodically review and evaluate these controls. The Commission announced in Exchange Act Release No. 46300 (Aug. 2, 2002) that it would consider rules to implement Section 302 of the Sarbanes-Oxley Act of 2002.

5. The Commission will consider adopting rules and form amendments to implement the accelerated filing deadline applicable to change of beneficial ownership reports required to be filed by officers, directors and principal security holders under Section 16(a) of the Securities Exchange Act of 1934, as amended by Section 403 of the Sarbanes-Oxley Act of 2002. The Commission announced in Exchange Act Release No. 46313 (Aug. 6, 2002) that it would consider adopting such amendments.

6. The Commission will consider whether the National Association of Securities Dealers, Inc. (“NASD”) and the Nasdaq Stock Market, Inc. (“Nasdaq”) have satisfied the conditions that must be implemented prior to or at the same time as Nasdaq's implementation of a new order display and collection facility (“SuperMontage”). The conditions, which were imposed by the Commission in a prior order granting conditional approval of the SuperMontage, include an alternative display facility established by the NASD for the display of market maker and ECN quotes.

7. The Commission will consider whether to grant a de minimis exemption from the trade-through restrictions of the Intermarket Trading System Plan for transactions in exchange-traded funds tracking the Nasdaq-100 Index (“QQQs”), the Dow Jones Industrial Average (“DIAMONDs”), and the Standard and Poors 500 Index (“SPDRs”). The exemption would cover transactions that are executed at no more than three cents ($0.03) away from the national best bid and offer displayed in the Consolidated Quote.

8. The Commission will consider whether to issue a release adopting rule amendments and a new rule under the Securities Exchange Act of 1934 (“Exchange Act”) that were proposed for comment in the Federal Register on June 10, 2002. New paragraph (e) of Rule 10b-10 and new Rule 11d2-1 are designed to clarify the disclosures broker-dealers effecting transactions in security futures products in futures accounts must make in the confirmations sent to customers regarding those transactions.

9. The Commission is proposing for comment amendments to the formula for determination of customer reserve requirements (“Reserve Formula”) of broker-dealers under Rule 15c3-3 to the Securities Exchange Act of 1934. The proposed amendments relate to treatment under the Reserve Formula of customer security futures product margin required and on deposit with a registered clearing agency or a derivatives clearing organization.

At times, changes in Commission priorities require alterations in the scheduling of meeting items. For further information and to ascertain what, if any, matters have been added, deleted or postponed, please contact: The Office of the Secretary at (202) 942-7070.

Dated: August 20, 2002.
Margaret H. McFarland,
Deputy Secretary.

[FR Doc. 02-21598 Filed 8-20-02; 3:57 pm]

BILLING CODE 8010-01-P